DEPARTMENT OF JUSTICE

Notice of Lodging of Consent Decree Under the Clean Air Act

On October 18, 2018, the Department of Justice lodged a proposed Consent Decree with the United States District Court for the Northern District of Ohio in United States v. Heritage Thermal Services, Civil Action No. 4:18-cv-2419.

The Consent Decree settles claims brought by the United States for violations of the Clean Air Act, 42 U.S.C. 7401 et seq., in connection with a hazardous waste incinerator owned and operated by the Defendant in East Liverpool, Ohio. The Consent Decree requires the Defendant to undertake extensive measures to address Clean Air Act violations, pay a civil penalty of $288,000, and implement a supplemental environmental project consisting of lead abatement activities in the East Liverpool area.

The publication of this notice opens a period for public comment on the proposed Consent Decree. Comments should be addressed to the Assistant Attorney General, Environment and Natural Resources Division, and should refer to United States v. Heritage Thermal Services, D.J. Ref. No. 90-5-2-1-11449. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $21.75 (25 cents per page reproduction cost) payable to the United States Treasury.

Randall Stone,
Acting Assistant Section Chief, Environmental Enforcement Section, Environment and Natural Resources Division.

[FR Doc. 2018-23190 Filed 10-23-18; 8:45 am]

BILLING CODE 4410-15-P